DEPARTMENT OF THE INTERIOR

Fish and Wildlife Service

[FWS-R4-R-2014-N109; FXRS12650400000S3-123-FF04R02000]

Florida Panther National Wildlife Refuge, Collier County, Florida

AGENCY: Fish and Wildlife Service, Interior.

ACTION: Notice of Intent; reopening of public scoping period for a comprehensive conservation plan revision and environmental assessment.

SUMMARY: We, the Fish and Wildlife Service (Service), advise the public that we are reopening the public scoping period for the preparation of a comprehensive conservation plan (CCP) revision and associated National Environmental Policy Act (NEPA) documents for Florida Panther National Wildlife Refuge (NWR), located in Collier County in southwest Florida. If you have previously submitted comments, please do not resubmit them. We have already incorporated them in the public record and will fully consider them in the development of the draft plan.

DATES: To ensure consideration, we must receive your written comments by September 19, 2014. One or more public scoping meetings will be scheduled to help engage the public in this planning process; please contact Florida Panther NWR for the date(s): FloridaPantherCCP@fws.gov or 239-353-8442. Information will also be posted on the refuge's Web site: http://www.fws.gov/floridapanther/.

ADDRESSES: An online public engagement platform will be used for the engagement of the public and the submission of public comments; to access this forum, please visit: http://www.fws.gov/floridapanther/ccp.

FOR FURTHER INFORMATION CONTACT: You may also submit comments, questions, and requests for information to: Cheri Ehrhardt, AICP, Natural Resource Planner, PO Box 2683, Titusville, FL 32781-2683; FloridaPantherCCP@fws.gov; 321-861-1276 (fax); or 321-861-2368.

SUPPLEMENTARY INFORMATION:

Introduction

On April 23, 2014, we published a Federal Register notice (79 FR 22697) announcing our intent to initiate our process for developing a CCP revision for Florida Panther NWR in Collier County, Florida and to request comments regarding the development of this CCP revision. We originally opened this comment period from April 23, 2014 to May 23, 2014. For background and more information, please see that notice. We are reopening the public comment period in order to schedule public scoping meetings to enhance the opportunity for comment. This notice complies with our CCP policy to: (1) Advise other Federal and State agencies, Native-American tribes, and the public of our intention to conduct detailed planning on this refuge and (2) obtain suggestions and information on the scope of issues to consider in the environmental document and during development of the CCP.

Public Availability of Comments

Before including your address, phone number, email address, or other personal identifying information in your comment, you should be aware that your entire comment-including your personal identifying information-may be made publicly available at any time. While you can ask us in your comment to withhold your personal identifying information from public review, we cannot guarantee that we will be able to do so.

Authority

This notice is published under the authority of the National Wildlife Refuge System Improvement Act of 1997 (16 U.S.C. 668dd et seq.).

Dated: June 17, 2014.
Mike Oetker,
Acting Regional Director.

[FR Doc. 2014-16540 Filed 7-18-14; 8:45 am]

BILLING CODE 4310-55-P